NUCLEAR REGULATORY COMMISSION

Advisory Committee on Reactor Safeguards Subcommittee Meeting on Thermal-Hydraulic Phenomena; Notice of Meeting

The ACRS Subcommittee on Thermal-Hydraulic Phenomena will hold a meeting on August 19 and 20, 2003, Room T-2B3, 11545 Rockville Pike, Rockville, Maryland.

The entire meeting will be open to public attendance.

The agenda for the subject meeting shall be as follows: Tuesday, August 19, 2003—8:30 a.m. until the conclusion of business:

The Subcommittee will discuss the “Review Standard for Extended Power Uprates.” Wednesday, August 20, 2003—8:30 a.m. until the conclusion of business:

The Subcommittee will review the staff's resolution of public comments associated with the Draft Regulatory Guide DG-1107, “Water Sources for Long-Term Recirculation Cooling Following a Loss-of-Coolant Accident.” The Subcommittee will hear presentations by and hold discussions with representatives of the NRC staff and other interested persons regarding these matters. The Subcommittee will gather information, analyze relevant issues and facts, and formulate proposed positions and actions, as appropriate, for deliberation by the full Committee.

Members of the public desiring to provide oral statements and/or written comments should notify the Designated Federal Official, Mr. Ralph Caruso (Telephone: 301-415-1813), five days prior to the meeting, if possible, so that appropriate arrangements can be made. Electronic recordings will be permitted only during those portions of the meeting that are open to the public.

Further information regarding this meeting can be obtained by contacting the Designated Federal Official between 7:30 a.m. and 4:15 p.m. (e.t.). Persons planning to attend this meeting are urged to contact the above named individual at least two working days prior to the meeting to be advised of any potential changes to the agenda.

Dated: July 31, 2003.
Sher Bahadur,
Associate Director for Technical Support, ACRS/ACNW.

[FR Doc. 03-20143 Filed 8-6-03; 8:45 am]

BILLING CODE 7590-01-P